PRIVACY AND CIVIL LIBERTIES OVERSIGHT BOARD

[Notice-PCLOB-2013-04; Docket No. 2013-0004; Sequence No. 4]

Notice of Meeting

AGENCY: Privacy and Civil Liberties Oversight Board.

ACTION: Notice of a meeting.

SUMMARY: The Privacy and Civil Liberties Oversight Board will conduct a public workshop with invited experts, academics and advocacy organizations regarding surveillance programs operated pursuant to Section 215 of the USA PATRIOT Act and Section 702 of Foreign Intelligence Surveillance Act.

DATES: July 9, 2013 at 9:30 a.m.-4:30 p.m. (Eastern Time).

Comments: You may submit comments, identified by the docket number in the heading of this document by the following method:

• Federal eRulemaking Portal: Go to http://www.regulations.gov. Follow the on-line instructions for submitting comments.

• Written comments may be submitted at any time prior to the closing of the docket at 12:00 p.m. Eastern Time on August 1, 2013.

All comments will be made publicly available and posted without change. Do not include personal or confidential information.

ADDRESSES: The location in Washington DC is still being determined. A notice will be published in the Federal Register with the location.

FOR FURTHER INFORMATION CONTACT: Susan Reingold, Chief Administrative Officer, 202-331-1986.

SUPPLEMENTARY INFORMATION:

Procedures for Public Participation

The workshop will be open to the public. The Board is contemplating moderated panel discussions with invited experts, academics, and advocacy organizations. Individuals who plan to attend and require special assistance, such as sign language interpretation or other reasonable accommodations, should contact Susan Reingold, Chief Administrative Officer, 202-331-1986, at least 72 hours prior to the meeting date.

Dated: June 24, 2013.
Diane Janosek,
Chief Legal Counsel, Privacy and Civil Liberties Oversight Board.

[FR Doc. 2013-15537 Filed 6-27-13; 8:45 am]

BILLING CODE 6820-B3-P